DEPARTMENT OF ENERGY

Federal Energy Regulatory Commission

[Docket No. EL12-61-000]

City of Alexandria, LA, Louisiana Energy and Power Authority, Lafayette Utilities System v. Cleco Power, LLC; Notice of Complaint

Take notice that on April 25, 2012, pursuant to sections 206, 306 and 309 of the Federal Power Act, 16 U.S.C. 824e, 825e, and 825h and Rule 206 of the Rules of Practice and Procedure of the Federal Energy Regulatory Commission (Commission), 18 CFR 385.206, City of Alexandria, Louisiana, Louisiana Energy and Power Authority, and Lafayette Utilities System (Complainants) filed a formal complaint against Cleco Power, LLC (Respondent) requesting that the Commission institute an investigation under Section 206 of the Federal Power Act and establish a refund effective date while the Commission evaluates the justness and reasonableness of Respondent's transmission rates, particularly those set forth in the ongoing, related proceedings initiated by Respondent under Section 205 of the Federal Power Act in Docket Nos. ER12-1378-000 and ER12-1379-000. Complainants also request that the Commission consolidate the instant proceeding with the ongoing proceedings in Docket Nos. ER12-1378-000 and ER12-1379-000.

Complainants certify that copies of the complaint were served on the contacts for Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 15, 2012.

Dated: April 26, 2012.
Kimberly D. Bose,
Secretary.

[FR Doc. 2012-10787 Filed 5-3-12; 8:45 am]

BILLING CODE 6717-01-P